DEPARTMENT OF DEFENSE

Office of the Secretary: Defense Science Board (DSB) Task Force on the Survivability of DoD Systems and Assets to Electromagnetic Pulse (EMP) and Other Nuclear Weapons Effects

AGENCY: Defense Threat Reduction Agency, Office of the Under Secretary of Defense (Acquisition, Technology and Logistics); DoD

ACTION: Meeting notice.

SUMMARY: Under the provisions of the Federal Advisory Committee Act of 1972 (5 U.S.C., Appendix, as amended) and the Sunshine Act of 1976 (5 U.S.C. 552b, as amended) the Department of Defense announces that the Defense Science Board (DSB) Task Force on the Survivability of DoD Systems and Assets to Electromagnetic Pulse (EMP) and other Nuclear Weapons Effects (hereafter referred to as the Task Force) will meet October 12-13, 2010 in Lorton, VA.

DATES: The meeting will be held from 8:30 a.m. to 5 p.m. on Tuesday, October 12 and Wednesday, October 13, 2010.

ADDRESSES: The meeting will be held at TASC, Inc., 8211 Terminal Road, Suite 1000, Room 111, Lorton, VA 22079-1421.

FOR FURTHER INFORMATION CONTACT: Mr. John Franco, Defense Threat Reduction Agency/AST, 8725 John J. Kingman Road, MS 6201, Fort Belvoir, VA 22060-6201. E-mail: john.franco@dtra.mil, Phone: (703) 767-1852, Fax: (703) 767-4911.

SUPPLEMENTARY INFORMATION:

Purpose of Meeting

To obtain, review and evaluate information related to the Task Force's mission focus to assess implementation of the DoD Instruction covering nuclear survivability including EMP and to assess the effectiveness of the management oversight group established by the DoD Instruction.

Meeting Agenda

The Task Force will receive, review and discuss presentations from the military services and other Defense Department agencies and organizations on implementation to date of DoD Instruction 3150.09 which deals with nuclear survivability including EMP and will contain classified materials as will an intelligence briefing on threat issues.

Meeting Accessibility

Pursuant to 5 U.S.C. 552b, as amended, and 41 CFR 102-3.155, the Department of Defense has determined that the meeting shall be closed to the public. The Undersecretary of Defense (Acquisition, Technology and Logistics), in consultation with the Office of the DoD General Counsel, has determined in writing that the public interest requires that all sessions of this meeting be closed to the public because they will be concerned with matters listed in section 552b(c)(1) of title 5, United States Code.

Written Statements

Pursuant to 41 CFR 102-3.105(j) and 102-3.140, the public or interested organizations may submit written statements to the membership of the Committee at any time or in response to the stated agenda of a planned meeting. Written statements should be submitted to the Committee's Designated Federal Officer; the Designated Federal Officer's contact information can be obtained from the GSA's FACA Database— https://www.fido.gov/facadatabase/public.asp.

Written statements that do not pertain to a scheduled meeting of the Committee may be submitted at any time. However, if individual comments pertain to a specific topic being discussed at a planned meeting then these statements must be submitted no later than five business days prior to the meeting in question. The Designated Federal Officer will review all submitted written statements and provide copies to all committee members.

Dated: September 8, 2010.
Mitchell S. Bryman,
Alternate OSD Federal Register Liaison Officer, Department of Defense.

[FR Doc. 2010-22753 Filed 9-10-10; 8:45 am]

BILLING CODE 5001-06-P